FEDERAL COMMUNICATIONS COMMISSION

Open Commission Meeting, Wednesday, December 12, 2018

December 4, 2018.

The Federal Communications Commission will hold an Open Meeting on the subjects listed below on Wednesday, December 12, 2018 which is scheduled to commence at 10:30 a.m. in Room TW-C305, at 445 12th Street SW, Washington, DC.

Because of the closure of the federal government for a National Day of Mourning for President George H.W. Bush on Wednesday, December 5, the Commission has determined that it is in the public interest to delay the onset of the sunshine period prohibition contained in Section 1.1203 of the Commission's rules, 47 CFR 1.1203. Accordingly, consistent with Section 1.1200(a) of the Commission's rules, 47 CFR 1.1200(a), the Commission has modified its rules so that the sunshine period prohibition will begin at 11:59 p.m. on Thursday, December 6, rather than at 11:59 p.m. on Wednesday, December 5.

Item No. | Bureau | Subject
1 | WIRELESS TELE-COMMUNICATIONS | Title: Use of Spectrum Bands Above 24 GHz For Mobile Radio Services (GN Docket No. 14-177).
|  | Summary: The Commission will consider a Report and Order that would adopt service rule changes for the Upper 37 GHz (37.6-38.6 GHz), 39 GHz (38.6-40 GHz), and 47 GHz (47.2-48.2 GHz) bands, and would provide for an incentive auction mechanism that would offer contiguous blocks of spectrum in the Upper 37 GHz and 39 GHz bands and additional spectrum in the 47 GHz band.
2 | WIRELINE COMPETITION | Title: Connect America Fund (WC Docket No. 10-90); ETC Annual Reports and Certifications (WC Docket No. 14-58); Establishing Just and Reasonable Rates for Local Exchange Carriers (WC Docket No. 07-135); Developing a Unified Intercarrier Compensation Regime (CC Docket No. 01-92).
|  | Summary: The Commission will consider a Report and Order, Further Notice of Proposed Rulemaking, and Order on Reconsideration. The Report and Order would offer additional funding to carriers that currently receive model-based universal service support in exchange for deploying broadband at increased speeds, provide an opportunity for legacy carriers to transition to model-based support, and authorize additional support for carriers remaining on the legacy rate-of-return support mechanism in exchange for targeting higher broadband speeds. The FNPRM would seek comment on implementing an auction mechanism for support in legacy areas that are overlapped or almost entirely overlapped by an unsubsidized competitor, and on addressing budgetary impacts as carriers transition to broadband-only lines. The Order on Reconsideration would deny three petitions for reconsideration.
3 | CONSUMER & GOVERNMENTAL AFFAIRS | Title: Advanced Methods to Target and Eliminate Unlawful Robocalls (CG Docket No. 17-59).
|  | Summary: The Commission will consider a Second Report and Order that would create a comprehensive database to enable callers to verify whether a telephone number has been permanently disconnected, and is therefore eligible for reassignment, before calling that number, thereby helping to protect consumers with reassigned numbers from receiving unwanted robocalls.
4 | WIRELESS TELE-COMMUNICATIONS | Title: Petitions for Declaratory Ruling on Regulatory Status of Wireless Messaging Service (WT Docket No. 08-7).
|  | Summary: The Commission will consider a Declaratory Ruling that would classify two forms of wireless messaging, Short Message Service (SMS) and Multimedia Messaging Service (MMS), as information services under the Communications Act, and help prevent consumers from receiving spam robotexts.
5 | MEDIA | Title: 2018 Quadrennial Regulatory Review—Review of the Commission's Broadcast Ownership Rules and Other Rules Adopted Pursuant to Section 202 of the Telecommunications Act of 1996 (MB Docket No. 18-349).
|  | Summary: The Commission will consider a Notice of Proposed Rulemaking that would initiate the 2018 Quadrennial Review of certain broadcast ownership rules.
6 | MEDIA | Title: Amendment of Parts 0, 1, 5, 73, and 74 of the Commission's Rules Regarding Posting of Station Licenses and Related Information (MB Docket No. 18-121); Modernization of Media Regulation Initiative (MB Docket No. 17-105).
|  | Summary: The Commission will consider a Report and Order that would eliminate certain rules which require local posting and maintenance of broadcast licenses and related information in specific locations.
7 | WIRELINE COMPETITION | Title: Enforcement Bureau Action Communications Marketplace Report (GN Docket No. 18-231); The State of Mobile Wireless Competition (WT Docket No. 18-203); Status of Competition in the Market for the Delivery of Video Programming (MB Docket No. 17-214); Status of Competition in the Marketplace for Delivery of Audio Programming (MB 18-227); Satellite Communications Services for the Communications Marketplace Report (IB Docket No. 18-251).
|  | Summary: The Commission will consider a Report that would consolidate several previously separate Commission reports into a single report on the state of the broader communications market in the United States. It would assess the state of all forms of competition in the communications marketplace and the state of deployment of communications capabilities, describe the actions taken by the Commission in the previous two years to address challenges and opportunities in the communications marketplace, and discuss the Commission's agenda for continuing to address those challenges and opportunities over the next two years.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Cecilia Sigmund,
Federal Register Liaison Officer, Office of the Secretary.

[FR Doc. 2018-26798 Filed 12-11-18; 8:45 am]

BILLING CODE 6712-01-P